DEPARTMENT OF HEALTH AND HUMAN SERVICES

Office of the Secretary

Agency Information Collection Activities: Submission For OMB Review; Comment Request

The Department of Health and Human Services, Office of the Scretary publishes a list of information collections it has submitted to the Office of Management and Budget (OMB) for clearance in compliance with the Paperwork Reduction Act of 1995 (44 U.S.C. Chapter 35) and 5 CFR 1320.5. The following are those information collections recently submitted to OMB.

1. Survey of Research Integrity Measures Utilized in Biomedical Research Laboratories—New—The Office of Research Interity (ORI) expanded its education program to promote research integrity and discourage research misconduct. The proposed survey will identify measures being utilized to prevent misconduct and promote integrity in research laboratories. The results will guide ORI in the development of training and other educational material promoting research integrity. Respondents: Business or other for-profit, non-profit institutions; Number of Respondents: 5,000; Frequency of Response: one time; Average Burden per Response: 15 minutes; Burden: 1,250 hours.

OMB Desk Officer: Allison Herron Eydt.

Copies of the information collection packages listed above can be obtained by calling the OS Reports Clearance Officer on (202) 690-6207. Written comments and recommendations for the proposed inforamtion collection should be sent directly to the OMB desk officer designated above at the following address. Human Resources and Housing Branch, Office of Management and Budget, New Executive Office Building, Room 10235, 725 17th Street NW., Washington, DC 20503.

Comments may also be sent to Cynthia Agens Bauer, OS Reports Clearance Officer, Room 503H, Humphrey Building, 200 Indepence Avenue SW., Washington, DC, 20201. Written comments should be received within 30 days of this notice.

Dated: April 30, 2002.
Kerry Weems,
Acting Deputy Assistant Secretary, Budget.

[FR Doc. 02-11731 Filed 5-9-02; 8:45 am]

BILLING CODE 4150-31-M